INTERNATIONAL TRADE COMMISSION

[Investigations Nos. 701-TA-409-412 and 731-TA-909-912 (Preliminary)]

Low Enriched Uranium From France, Germany, The Netherlands, and the United Kingdom

Determinations

On the basis of the record ¹ developed in the subject investigations, the United States International Trade Commission determines, pursuant to sections 703(a) and 733(a) of the Tariff Act of 1930 (19 U.S.C. 1671b(a) and 1673(b)(a)),² that there is a reasonable indication that an industry in the United States is threatened with materially injury by reason of imports from France, Germany, the Netherlands, and the United Kingdom of low enriched uranium, that are alleged to be subsidized by the Governments of France, Germany, the Netherlands, and the United Kingdom and that are alleged to be sold in the United States at less than fair value (LTFV).

¹ The record is defined in sec. 207.2(f) of the Commission's Rules of Practice and Procedure (19 CFR § 207.2(f)).

² Vice Chairman Okun and Commissioner Devaney not participating.

Commencement of the Final Phase Investigations

Pursuant to section 207.18 of the Commission's rules, the Commission also gives notice of the commencement of the final phase of its investigations. The Commission will issue a final phase notice of scheduling which will be published in the Federal Register as provided in section 207.21 of the Commission's rules upon notice from the Department of Commerce (Commerce) of affirmative preliminary determinations in the investigations under section 703(b) and 733(b) of the Act, or, if the preliminary determinations are negative, upon notice of affirmative final determinations in these investigations under section 705(a) and 735(a) of the Act. Parties that filed entries of appearance in the preliminary phase of the investigations need not enter a separate appearance for the final phase of the investigations. Industrial users, and, if the merchandise under investigation is sold at the retail level, representative consumer organizations have the right to appear as parties in Commission antidumping and countervailing duty investigations. The Secretary will prepare a public service list containing the names and addresses of all persons, or their representatives, who are parties to the investigations.

Background

On December 7, 2000, a petition was filed with the Commission and Commerce by USEC Inc., and its wholly owned subsidiary United States Enrichment Corp., Bethesda, MD, alleging that an industry in the United States is materially injured and threatened with material injury by reason of subsidized and LTFV imports of low enriched uranium from France, Germany, the Netherlands, and the United Kingdom. Accordingly, effective December 7, 2000, the Commission instituted countervailing duty and antidumping investigations Nos. 701-TA-409-412 and 731-TA-909-912 (Preliminary).

Notice of the institution of the Commission's investigations and of a public conference to be held in connection therewith was given by posting copies of the notice in the Office of the Secretary, U.S. International Trade Commission, Washington, DC, and by publishing the notice in the Federal Register of December 14, 2000 (65 FR 78187). The conference was held in Washington, DC, on December 28, 2000, and all persons who requested the opportunity were permitted to appear in person or by counsel.

The Commission transmitted its determination in these investigations to the Secretary of Commerce on January 22, 2001. The views of the Commission are contained in USITC Publication 3388 (January 2001), entitled Low Enriched Uranium From France, Germany, the Netherlands, and the United Kingdom: Investigations Nos. 701-TA-409-412 and 731-TA-909-912 (Preliminary).

Issued: January 24, 2001.
By order of the Commission.
Donna R. Koehnke,
Secretary.

[FR Doc. 01-2689 Filed 1-30-01; 8:45 am]

BILLING CODE 7021-02-P